FEDERAL COMMUNICATIONS COMMISSION

47 CFR Part 11

[EB Docket No. 04-296, FCC 07-109]

Review of the Emergency Alert System

AGENCY: Federal Communications Commission.

ACTION: Notice of proposed rulemaking.

SUMMARY: In this document the Commission seeks comment on several issues relating to the Emergency Alert System (EAS), in order to ensure that EAS rules better protect the life and property of all Americans. Recognizing the need of all Americans to be alerted in the event of an emergency, the Commission seeks comment on those whose primary language is not English, and persons with disabilities, to determine how these communities might best be served by EAS. The Commission also seeks comment on whether emergency alerts transmitted by local authorities should be transmitted, and various ways that performance of EAS operation may be assessed.

DATES: Written comments are due on or before December 3, 2007 and reply comments are due on or before December 17, 2007.

ADDRESSES: You may submit comments, identified by EB Docket No. 04-296, by any of the identified methods:

• Federal eRulemaking Portal: http://www.regulations.gov. Follow the instructions for submitting comments.

• Federal Communications Commission's Web Site: http://www.fcc.gov/cgb/ecfs/. Follow the instructions for submitting comments.

• Mail: U.S. Postal Service first-class, Express, and Priority mail must be addressed to 445 12th Street, SW., Washington, DC 20554.

• People with Disabilities: Contact the FCC to request reasonable accommodations (accessible format documents, sign language interpreters, CART, etc.) by e-mail: FCC504@fcc.gov or phone 202-418-0530 or TTY: 202-418-0432.

For detailed instructions for submitting comments and additional information on the rulemaking process, see the SUPPLEMENTARY INFORMATION section of this document.

FOR FURTHER INFORMATION CONTACT: Thomas Beers, Policy Division, Public Safety and Homeland Security Bureau, (202) 418-1170, or TTY (202) 418-7233.

SUPPLEMENTARY INFORMATION: This is a summary of the Federal Communications Commission's Further Notice of Proposed Rulemaking (FNPRM) in EB Docket No. 04-296, FCC 07-108, adopted on May 31, 2007, and released on July 12, 2007.

Non-English Speakers

1. In the FNPRM, the Commission seeks comment on how non-English speakers may best be served by national, state and local EAS. In particular, we invite comment on how localities with non-English speakers should be identified. In which markets should special emergency alert rules apply? Should state and local EAS plans designate a “Local Primary Multilingual” station to transmit emergency information the relevant foreign language in local areas where a substantial proportion of the population has a fluency in a language other than English? How should we quantify the “substantial proportion”? Should at least one broadcast station in every market, or some subset of markets, be required to monitor and rebroadcast emergency information carried by a “Local Primary Multilingual” station. And, should stations that remain on the air during an emergency be required to broadcast emergency information in the relevant foreign language to the extent that the “Local Primary Multilingual” station loses transmission capability. What criteria should the originator of an EAS message use in determining which languages to require EAS Participants to transmit? Should more than two languages be transmitted in certain areas? We seek comments on the technical, economic, practical, and legal issues, including the Commission's authority, involved in making emergency information accessible to persons whose primary language is not English. We would especially welcome comments on state-level or other efforts designed to address these issues. We note, for example, that Florida has implemented a program to promote the provision of emergency information to non-English speakers in that state, and that California and Texas have addressed the issue in their EAS plans filed with this Commission. We direct the Public Safety and Homeland Security Bureau to convene a meeting—or series of meetings—as soon as possible concerning EAS as it relates to the needs of non-English speakers. The Bureau should thereafter submit into the record a progress report on these discussions within 30 days of the Order's release.

Persons with Disabilities

2. In the FNPRM we reexamine the best way to make EAS and other emergency information accessible to persons with disabilities. We request comments on this subject, including, but not necessarily limited to the following key issues: (i) Presentation of the audio feed in text format, and vice-versa; (ii) making emergency information available to various devices commonly used by persons with disabilities; and (iii) providing emergency messages in multiple formats to meet the needs of persons with disabilities. We also seek comment on the interaction between our part 11 rules and section 79.2 of our rules. We welcome comments on the technical, economic, practical, and legal issues, including the Commission's authority, involved in making emergency information accessible to persons with disabilities.

Other Local Official Alerts

3. Our action enables state governors (or their designees) to initiate state-level and geo-targeted alerts for mandatory transmission by EAS Participants. Since EAS activations to date have been overwhelmingly related to weather and state and local alerts, we seek comment on whether EAS Participants should be required to receive and transmit alerts initiated by government entities other than a state governor. Should local, county, tribal, or other state governmental entities be allowed to initiate mandatory state and local alerts? How should the Commission decide which public officials should be permitted to activate the alert? Should the expansion of mandatory state and local alerts be limited to certain types of alerts? We seek comment on whether the Commission should specify the types of emergency alerts that these local officials should be permitted to activate? Should only certain classes of EAS Participants be required to transmit such alerts by entities other than the governor? Does CAP allow for proper delivery of such alerts, or should such alerts be mandatory only in the context of Next Generation EAS? What other considerations should govern the appropriate use of a mandatory alerting process by entities other than a governor? We seek comment generally on how this type of requirement should be implemented.

Assessing EAS Operation

4. We seek comment on several options for ensuring that EAS operates as designed in an emergency, including whether we should require: (i) Additional testing of the EAS, and specifically CAP; (ii) station certification of compliance; and (iii) assessments of EAS performance after an alert has been triggered. We will revisit the issue of performance standards if it appears that they are warranted. In particular, we seek comments on the technical, economic, practical, and legal issues involved.

I. PROCEDURAL MATTERS

A. Ex-Parte Rules—Permit-but-Disclose Proceeding

5. This proceeding shall be treated as a “permit-but-disclose” proceeding in accordance with the Commision's ex parte rules. Persons making oral ex parte presentations are reminded that memoranda summarizing the presentations must contain summaries of the substance of the presentations and not merely a listing of the subjects discussed. More than a one- or two-sentence description of the views and arguments presented is generally required. Other rules pertaining to oral and written presentations are set forth in section 1.1206(b) of the Commission's rules.

B. Comment Dates

6. Pursuant to §§ 1.415 and 1.419 of the Commission's rules, 47 CFR 1.415, 1.419, interested parties may file comments and reply comments on or before the dates indicated on the first page of this document. Comments may be filed using (1) the FCC's Electronic Comment Filing System (ECFS), (2) the Federal Government's eRulemaking Portal, or (3) by filing paper copies. See Electronic Filing of Documents in Rulemaking Proceedings, 63 FR 24,121 (1998).

7. Electronic Filers: Comments may be filed electronically using the Internet by accessing the ECFS: http://www.fcc.gov/cgb/ecfs or the Federal eRulemaking Portal: http://www.regulations.gov. Filers should follow the instructions provided on the website for submitting comments.

8. For ECFS filers, if multiple dockets or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

9. Paper Filers: Parties who choose to file by paper must file an original and four copies of each filing. If more than one docket or rulemaking number appears in the caption of this proceeding, filers must submit two additional copies for each additional docket or rulemaking number.

10. Filings can be sent by hand or messenger delivery, by commercial overnight courier, or by first-class or overnight U.S. Postal Service mail (although we continue to experience delays in receiving U.S. Postal Service mail). All filings must be addressed to the Commission's Secretary, Office of the Secretary, Federal Communications Commission.

11. The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

12. Commercial overnight mail (other than U.S. Postal Service Express Mail and Priority Mail) must be sent to 9300 East Hampton Drive, Capitol Heights, MD 20743.

13. U.S. Postal Service first-class, Express, and Priority mail must be addressed to 445 12th Street, SW., Washington, DC 20554.

14. To request materials in accessible formats for people with disabilities (braille, large print, electronic files, audio format), send an e-mail to fcc504@fcc.gov or call the Consumer & Governmental Affairs Bureau at 202-418-0530 (voice), 202-418-0432 (TTY).

C. Paperwork Reduction Act

15. This document does not contain proposed information collection(s) subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

II. INITIAL REGULATORY FLEXIBILITY ANALYSIS

16. As required by the Regulatory Flexibility Act of 1980, as amended (RFA), the Commission has prepared this present Initial Regulatory Flexibility Analysis (IRFA) of the possible significant economic impact on a substantial number of small entities by the policies and rules proposed in this FNPRM. Written public comments are requested on this IRFA. Comments must be identified as responses to the IRFA and must be filed by the deadlines for comments on the first page of the FNPRM. The Commission will send a copy of the FNPRM, including this IRFA, to the Chief Counsel for Advocacy of the Small Business Administration (SBA). In addition, the FNPRM and IRFA (or summaries thereof) will be published in the Federal Register.

Need for, and Objectives of, the Proposed Rules

17. In the FNPRM, we seek comment on four areas where the EAS rules might be amended. Recognizing the need of all Americans to be alerted in the event of an emergency, the Commission invites comments first on non-English speakers and second on persons with disabilities to determine how these communities might best be served by EAS. Third, the Commission invites comment on whether emergency alerts transmitted by local authorities should be transmitted. Fourth, the Commission invites comment on various ways that the performance of EAS operations may be assessed.

Legal Basis

18. Authority for the actions proposed in this FNPRM may be found in sections 1, 4(i), 4(o), 303(r), 403, 624(g) and 706 of the Communications Act of 1934, as amended, (Act) 47 U.S.C. 151, 154(i), 154(j), 154(o), 303(r), 544(g) and 606.

Description and Estimate of the Number of Small Entities To Which Rules Will Apply

19. The RFA directs agencies to provide a description of, and, where feasible, an estimate of, the number of small entities that may be affected by the rules adopted herein. The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA).

Description of Projected Reporting, Recordkeeping, and Other Compliance Requirements

20. There are potential reporting or recordkeeping requirements proposed in the FNPRM. For example, the Commission is considering whether to adopt performance standards and reporting obligations for EAS participants. The proposals set forth in the FNPRM are intended to advance our public safety mission and enhance the performance of the EAS while reducing regulatory burdens wherever possible.

Steps Taken To Minimize the Significant Economic Impact on Small Entities, and Significant Alternatives Considered

21. The RFA requires an agency to describe any significant alternatives that it has considered in developing its approach, which may include the following four alternatives (among others): “(1) The establishment of differing compliance or reporting requirements or timetables that take into account the resources available to small entities; (2) the clarification, consolidation, or simplification of compliance and reporting requirements under the rule for such small entities; (3) the use of performance rather than design standards; and (4) an exemption from coverage of the rule, or any part thereof, for such small entities.”

22. The FNPRM seeks comment on how the Commission may better protect the lives and property of Americans. In commenting on this goal, commenters are invited to propose steps that the Commission may take to minimize any significant economic impact on small entities. When considering proposals made by other parties, commenters are invited to propose significant alternatives that serve the goals of these proposals. We expect that the record will develop to demonstrate significant alternatives.

Federal Rules That May Duplicate, Overlap, or Conflict With the Proposed Rules

23. None.

III. ORDERING CLAUSES

24. The Commission's Consumer and Governmental Affairs Bureau, Reference Information Center, shall send a copy of this Further Notice of Proposed Rulemaking including the Initial Regulatory Flexibility Analysis, to the Chief Counsel for Advocacy of the Small Business Administration.

Federal Communications Commission.
Marlene H. Dortch,
Secretary.

[FR Doc. 07-5331 Filed 11-1-07; 8:45 am]

BILLING CODE 6712-01-P